DEPARTMENT OF EDUCATION

Office of Elementary and Secondary Education—Enhanced Assessment Instruments; Withdrawal of Notice Inviting Applications for New Awards for Fiscal Year (FY) 2005

Catalog of Federal Domestic Assistance (CFDA) Number: 84.368.

SUMMARY: On April 19, 2005, the Secretary published in the Federal Register (70 FR 20360) a notice inviting applications for new awards for fiscal year (FY) 2005 under the Enhanced Assessment Instruments Grants program. Subsequent to the publication of this notice, the Secretary announced that the Department will be publishing a notice of proposed rulemaking (NPRM) related to modified achievement standards for a limited group of students with disabilities. These regulations may affect the criteria for awarding Enhanced Assessment Instruments Grants. The purpose of this notice is to withdraw the invitation for applications for new awards for Enhanced Assessment Instrument Grants for fiscal year 2005.

SUPPLEMENTARY INFORMATION: The Secretary anticipates re-announcing this competition after publication in the Federal Register of both an NPRM and final regulations that may change the selection criteria for this program. The Department will publish a new notice in the Federal Register inviting applications for new awards for FY 2006 at a later date.

FOR FURTHER INFORMATION CONTACT: Sue Rigney, Student Achievement and School Accountability Program, U.S. Department of Education, 400 Maryland Avenue, SW., room 3C139, Washington, DC 20202-6132. Telephone: 202-260-0931 or by e-mail: sue.rigney@ed.gov.

If you use a telecommunications device for the deaf (TDD), you may call the Federal Relay Service (FRS) at 1-800-877-8339.

Individuals with disabilities may obtain this document in an alternative format (e.g., Braille, large print, audiotape, or computer diskette) by contacting the program contact person listed in this section.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 7842 and 7301a.

Dated: June 10, 2005.
Raymond Simon,
Assistant Secretary for Elementary and Secondary Education.

[FR Doc. 05-11803 Filed 6-14-05; 8:45 am]

BILLING CODE 4000-01-P